DEPARTMENT OF COMMERCE

National Oceanic and Atmospheric Administration

RIN 0648-XC599

Marine Mammals; File No. 17845

AGENCY: National Marine Fisheries Service (NMFS), National Oceanic and Atmospheric Administration (NOAA), Commerce.

ACTION: Notice; receipt of application.

SUMMARY: Notice is hereby given that Rachel Cartwright, Keiki Kohola Project, 5277 West Wooley Rd., Oxnard, CA 93035, has applied in due form for a permit to conduct research on humpback whales (Megaptera novaeangliae).

DATES: Written, telefaxed, or email comments must be received on or before May 9, 2013.

ADDRESSES: The application and related documents are available for review by selecting “Records Open for Public Comment” from the Features box on the Applications and Permits for Protected Species (APPS) home page, https://apps.nmfs.noaa.gov, and then selecting File No. 17845 from the list of available applications.

These documents are also available upon written request or by appointment in the following offices: “See SUPPLEMENTARY INFORMATION.”

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Kristy Beard or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The proposed five-year permit would authorize the level A and B harassment of humpback whales during photo-identification, behavioral follows, and surface and underwater observations in Hawaii, Alaska, and California. The applicant would approach up to 1,047 humpback whales in Hawaii, 630 in Alaska and 480 in California each year. Short-term, non-invasive, suction cup tagging of maternal females would be conducted within Hawaiian waters to document nocturnal behaviors and fine-scale movements and in Californian waters to better understand use of waters around the Santa Barbara Channel and Channel Islands (Anacapa, Santa Cruz and Santa Rosa Islands). Twelve tags would be deployed annually in both Hawaii and California; two attempts would be made to attach a tag to an individual. Surveys would be conducted between December and May each year within Hawaiian waters and for a four to six week period between April and November in Alaskan and Californian waters each year. The purpose of the proposed research is to identify and define critical habitat used by maternal female humpback whales and their calves, across the period from infancy to maturity and independence. Inherent in this goal is the understanding of the functionality of behavior during this period, with regards to both the maternal female and her calf. This study would provide the information required to ensure that management practices in waters used by maternal females, their calves and maturing juvenile whales are effective and accurately targeted. Opportunistic research on Pacific white-sided dolphins (Lagenorhynchus obliquidens), Risso's dolphins (Grampus griseus), Dall's porpoise (Phocoenoides dalli), blue whales (Balaenoptera musculus), killer whales (Orcinus orca), minke whales (B. acutorostrata), spinner dolphins (Stenella longirostris), bottlenose dolphins (Tursiops truncatus), and false killer whales (Pseudorca crassidens) would also be conducted. Incidental harassment of Steller (Eumetopias jubatus) and California sea lions (Zalophus californianus) would also occur.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Documents may be reviewed in the following locations:

Permits and Conservation Division, Office of Protected Resources, NMFS, 1315 East-West Highway, Room 13705, Silver Spring, MD 20910; phone (301) 427-8401; fax (301) 713-0376;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018; and

Pacific Islands Region, NMFS, 1601 Kapiolani Blvd., Rm 1110, Honolulu, HI 96814-4700; phone (808) 944-2200; fax (808) 973-2941.

Dated: April 3, 2013.
P. Michael Payne,
Chief, Permits and Conservation Division, Office of Protected Resources, National Marine Fisheries Service.

[FR Doc. 2013-08173 Filed 4-8-13; 8:45 am]

BILLING CODE 3510-22-P